ELECTION ASSISTANCE COMMISSION

Meeting Notice

AGENCY: U.S. Election Assistance Commission.

ACTION: Notice of Public Meeting for EAC Board of Advisors.

Date and Time: Wednesday, May 4, 2016, 9:00 a.m.-4:30 p.m. and Thursday, May 5, 2016, 8:15 a.m.-12:20 p.m.

Place: The Crowne Plaza Chicago Metro Hotel, 733 W. Madison, Chicago IL 60661, Phone: (312) 829-5000.

Purpose: In accordance with the Federal Advisory Committee Act (FACA), Public Law 92-463, as amended (5 U.S.C. Appendix 2), the U.S. Election Assistance Commission (EAC) Board of Advisors will meet to address its responsibilities under the Help America Vote Act of 2002 (HAVA), to present its views on issues in the administration of Federal elections, formulate recommendations to the EAC, and receive updates on EAC activities.

Agenda: The Board of Advisors will receive an overview of EAC Agency Operations, and will receive updates on EAC Grants and Audits, EAC Testing and Certification and Voluntary Voting System Guidelines (VVSG) 1.1, EAC Election Administration and Voting Survey (EAVS), EAC Election Worker Recruitment, Training and Retention Project, EAC and the National Voter Registration Act (NVRA), and EAC's New Web site Rollout. The Board will receive briefings from the U.S. Department of Justice (DOJ), the Federal Voting Assistance Program (FVAP), and the Counsel of State Governments (CSG).

The Board of Advisors will conduct breakout sessions of the Executive/By-law subcommittee. The Board will discuss and vote on proposed Bylaws amendments, and will fill vacancies for officers. The Board will consider other administrative matters.

Supplementary: Members of the public may submit relevant written statements to the Board of Advisors with respect to the meeting no later than 5:00 p.m. EDT on Wednesday, April 27, 2016. Statements may be sent via email at facaboards@eac.gov, via standard mail addressed to the U.S. Election Assistance Commission, 1335 East West Highway, Suite 4300, Silver Spring, MD 20910, or by fax at 301-734-3108.

This meeting will be open to the public.

Person To Contact for Information: Bryan Whitener, Telephone: (301) 563-3961.

Bryan Whitener,
Director of Communications and Clearinghouse, U.S. Election Assistance Commission.

[FR Doc. 2016-08677 Filed 4-14-16; 8:45 am]

BILLING CODE 6820-KF-P